DEPARTMENT OF HEALTH AND HUMAN SERVICES

Agency for Toxic Substances and Disease Registry

Pediatric Environmental Health Specialty Unit (PEHSU) Program

Announcement Type: New.

Funding Opportunity Number: 04024.

Catalog of Federal Domestic Assistance Number: 93.161.

Key Dates:

Application Deadline: July 26, 2004.

Executive Summary: The Agency for Toxic Substances and Disease Registry (ATSDR) Pediatric Environmental Health Specialty Unit (PEHSU) Program was developed as a national resource for pediatricians, other health care providers, Federal staff, and the public. The mission is to: (1) Reduce environmental health threats to children; (2) improve access to expertise in pediatric environmental medicine; and (3) strengthen public health prevention capacity.

The three primary focus areas of the Program are education and health promotion, consultation, and referral of children who may have been exposed to environmental hazards.

I. Funding Opportunity Description

Authority: This program is authorized under sections 104(i) of the Comprehensive Environmental Response, Compensation, and Liability Act (CERCLA) of 1980, as amended by the Superfund Amendments and Reauthorization Act (SARA) of 1986 [42 U.S.C. 9604(i)].

Purpose: The grantee under this PEHSU Program will operate as a national resource for pediatricians, other health care providers, Federal staff, and the public. The purpose of the Program is to: (1) Reduce environmental health threats to children; (2) improve access to expertise in pediatric environmental medicine; (3) strengthen public health prevention capacity; and (4) assist pediatric patients, their families, health care providers, and Federal/regional staff. The grantee will also assist sites or local communities where the ATSDR and the PEHSU Program are intended to provide services to pediatric patients and their families, health care providers, and Federal/regional staff. The PEHSU will have a special focus to assist sites or local communities where ATSDR and Environmental Protection Agency (EPA) are involved. This program addresses the “Healthy People 2010” focus area of Educational and Community-Based Programs, Environmental Health, and Age-Related Objectives for Children.

Measurable outcomes of the program will be in alignment with one (or more) of the following performance goal(s) for the ATSDR: (1) Prevent ongoing and future exposures and resultant health effects from hazardous waste sites and releases; (2) Mitigate the risks of human health effects at toxic waste sites with documented exposures; and (3) Build and enhance effective partnerships.

Activities

Awardee activities for this program are as follows:

Manage and Oversee the PEHSU Services

• Establish and administer a PEHSU Program in each of the ten EPA regions. (Please see Attachment One for a list of these regions. Attachments are posted with this announcement on the CDC Web site at http://www.cdc.gov/od/pgo/funding/grantmain.htm).

• Provide oversight and technical assistance in the regional PEHSU organizational development and operations management.

• Work closely with ATSDR and EPA staff located in federal regional offices, as well as EPA staff in Washington, DC and ATSDR staff in Atlanta, Georgia.

• Monitor and report quantitatively and qualitatively on PEHSU program accomplishments. Reports should be compatible with the ATSDR management information system Site Tracking and Reporting System (STARS).

• Develop, coordinate and host an annual PEHSU conference to promote professional and organizational development in pediatric environmental health and medicine.

• Identify and select appropriate staff, based on experience and capability, to successfully implement the program activities.

Education and Health Promotion

• Develop and present pediatric environmental health education events and support materials targeting health care providers, environmental health professionals, families, teachers, communities designated as superfund sites, and the general public.

• Assure that PEHSU educational presentations provide culturally relevant information to all groups, emphasizing prevention, the special vulnerability of children to environmental threats, and practical steps to protect children.

• Provide expert speakers on various topics in pediatric health.

Work with other organizations to define core competencies in pediatric environmental health.

• Provide a setting for Pediatric Environmental Medicine Fellowships and other training programs.

• Assist community self-empowerment in children's environmental health issues, and work with local authorities in developing prevention and intervention programs.

• Identify and promote environmental health policies that protect children.

• Assist with local public health infrastructure development and capacity building in all areas of pediatric environmental health, including biochemical terrorism and disaster preparedness.

Consultation

• Provide pediatric environmental health consultation to health care professionals and public health officials through an established toll-free telephone line with a mechanism for emergency consultation (24 hour per day/7 days per week).

• Provide consultation to parents and caregivers regarding environmental exposures and possible health effects through a toll-free telephone line.

• Provide a forum for pediatricians and environmental health specialists to combine knowledge to better serve children with environmental exposures and diseases of suspected environmental origin.

• Foster communication between existing medical resources as a means of improving pediatric health care.

• Provide communication and coordination with regional poison control centers.

Referral

• Provide medical referrals to pediatric patients and their families when the child is impacted by environmental exposures to potentially toxic agents.

• Maintain an accurate list of operating pediatric environmental health specialist clinics within each regional PEHSU.

In a cooperative agreement, ATSDR staff is substantially involved in the program activities, above and beyond routine grant monitoring.

ATSDR Activities for this program are as follows:

• Provide technical assistance in identifying needs for pediatric environmental health education targeting health care providers, environmental health professionals, families, teachers, and the general public.

• Provide information, instructional resources, technical assistance and collaboration needed to effectively work.

• Assist health care providers, environmental health professionals, families, teachers, and the general public in communities to understand health effects of known contaminants, and how to take appropriate action to protect the health of those impacted.

• Assist in the development of evaluation plans that address the effectiveness and impact of the overall project.

• Provide assistance in establishing communication and resource networks including such partners as other Federal agencies, State and local health departments, tribal governments, environmental and health professionals, non-governmental organizations, and academic, medical, and clinical associations.

• Provide technical assistance and collaboration in the dissemination of resource materials, such as providing guidance in the use of distance learning methods, outreach consultation, and educational design.

• Assist in providing training related to exposure assessment, health concerns response, and community involvement in contaminated sites.

II. Award Information

Type of Award: Cooperative Agreement. ATSDR involvement in this program is listed in the Activities section above.

Fiscal Year Funds: 2004.

Approximate Total Funding: $1,400,000.

Approximate Number of Awards: One.

Approximate Average Award: $1,400,000 (This amount is for the first 12-month budget period, and includes both direct and indirect costs.)

Floor of Award Range: None.

Ceiling of Award Range: $1,400,000.

Anticipated Award Date: August 1, 2004.

Budget Period Length: 12 months.

Project Period Length: Five years.

Throughout the project period, ATSDR's commitment to continuation of awards will be conditioned on the availability of funds, evidence of satisfactory progress by the recipient (as documented in required reports), and the determination that continued funding is in the best interest of the Federal Government.

III. Eligibility Information

III.1. Eligible Applicants

Applications may be submitted by national professional organizations, comprised of health care practitioners in environmental and pediatric-related medicine, providing environmental health education, environmental medical guidance, and environmental public health promotion activities. To be a successful applicant, an organization must have:

• A national network of medical specialists with pediatric and environmental medicine experience and expertise.

• Expertise and experience in conducting both health care provider and community health education and promotion activities related to environmental exposure to toxic substances.

• Expertise and experience in providing pediatric medical consultation and clinical referral to children and other individuals who may have experienced environmental exposure to toxic substances.

• Documentation that supports the expertise, experience and maintenance of a national network of pediatric and environmental medical specialists and clinics.

III.2. Cost Sharing or Matching

Matching funds are not required for this program.

III.3. Other

If you request a funding amount greater than the ceiling of the award range, your application will be considered non-responsive, and will not be entered into the review process. You will be notified that your application did not meet the submission requirements.

If your application is incomplete or non-responsive to the requirements listed in this section, it will not be entered in to the review process. You will be notified that your application did not meet submission requirements.

Note: Title 2 of the United States Code section 1611 states that an organization described in section 501(c)(4) of the Internal Revenue Code that engages in lobbying activities is not eligible to receive Federal funds constituting an award, grant, or loan.

IV. Application and Submission Information

IV.1. Address To Request Application Package

To apply for this funding opportunity use application form PHS 5161. Application forms and instructions are available on the CDC Web site, at the following Internet address: http://www.cdc.gov/od/pgo/forminfo.htm. If you do not have access to the Internet, or if you have difficulty accessing the forms on-line, you may contact the CDC Procurement and Grants Office Technical Information Management Section (PGO-TIM) staff at: (770) 488-2700. Application forms can be mailed to you.

IV.2. Content and Form of Submission

Application: You must include a project narrative with your application forms. Your narrative must be submitted in the following format:

• Maximum number of pages: 25 pages. If your narrative exceeds the page limit, only the first pages which are within the page limit will be reviewed.

• Font size: 12 point unreduced.

• Paper size: 8.5 by 11 inches.

• Double spaced.

• Page margin size: One inch.

• Printed only on one side of page.

• Held together only by rubber bands or metal clips; not bound in any other way.

You must submit a signed original and two copies of your application forms.

Your narrative should address activities to be conducted over the entire project period, and must include the following items in the order listed:

• Project Plan:

○ Background: A brief discussion demonstrating an understanding of chemical and toxic contamination issues of communities in the U.S., including disproportionate risk to children and other vulnerable populations.

◦ Target Populations and Their Health Education and Promotion Needs: An explanation of populations (e.g., organizational members, partners, and community residents) that can be reached by the regional PEHSU Network and the perceived needs these populations have for health education and promotion services and environmental health resources.

○ Project Goals and Objectives: These sections should provide clearly stated project objectives that are realistic, measurable, and related to program requirements.

○ Activities and Timeline: The activities of the project should be clearly presented to demonstrate a sufficient time allocation, and chronology or sequence of events to be conducted. The activities should provide specificity and demonstrate feasibility of the proposed activities in the form of a plan of work and timeline for accomplishing the project activities.

○ Plan for Collaboration: The project plan should present the scope of activities that the applicant intends to undertake within the National PEHSU Network.

• Capacity for Health Education and Promotion: In this section, include a discussion of past and present activities that demonstrate a capability to:

○ Plan, conduct, and evaluate environmental health education and promotion initiatives.

○ Provide consultative services in environmental health education and promotion activities.

○ Develop and deliver resources that support environmental health education and promotion efforts.

○ Demonstrate a history of collaborative environmental health work.

• Personnel: This section should address the qualification, experience, and responsibilities of each individual working on the project. Adequate time and effort necessary to provide effective leadership should be demonstrated by the project lead. Any new staffing requirements should be addressed with inclusion of a recruitment plan and position descriptions. Vitas or resumes should be provided for all existing staff. (Curriculum vitas and resumes will not be counted toward the narrative page limit.)

• Evaluation Plan: The project evaluation plan should address the evaluation strategies and methods necessary to measure impacts and outcomes of the project interventions. It should present measures for the overall project and its impact and outcome, such as achievement of stated public health objectives and effect of the project on the stated population. Other project measures may be changes in the knowledge, attitudes, and behaviors or practices of the target population/audience, or community-wide changes intended to occur in programs, policies, or the physical environment that influences the health of the target populations. To the extent possible, the evaluation measures must be objective and quantitative and relate to the performance goals stated in section “B. Purpose” of this announcement.

• Budget Justification: A clearly justified budget narrative that is consistent with the purpose, relates directly to project activities, is clearly justified, and is consistent with intended use of funds is required. The budget justification will not be counted towards the narrative page limit.

Additional information may be included in the application appendices. The appendices will not be counted toward the narrative page limit. This additional information includes:

• Organizational chart

• Curriculum vitas or resume

• Letters of support

• Samples of health education/promotion materials, or Internet address for accessing these materials on the Web

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711. For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Date, and Time

Application Deadline Date: July 26, 2004.

Explanation of Deadlines: Applications must be received in the CDC PGO by 4 p.m. Eastern Time on the deadline date. If you send your application by the United States Postal Service or commercial delivery service, you must ensure that the carrier will be able to guarantee delivery of the application by the closing date and time. If CDC receives your application after closing due to: (1) carrier error, when the carrier accepted the package with a guarantee for delivery by the closing date and time, or (2) significant weather delays or natural disasters, you will be given the opportunity to submit documentation of the carriers guarantee. If the documentation verifies a carrier problem, CDC will consider the application as having been received by the deadline.

This program announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: (770) 488-2700. Before calling, please wait two to three days after the application deadline. This will allow time for applications to be processed and logged.

IV.4. Intergovernmental Review of Applications

Your application is subject to Intergovernmental Review of Federal Programs, as governed by Executive Order (EO) 12372. This order sets up a system for State and local governmental review of proposed Federal assistance applications. You should contact your State single point of contact (SPOC) as early as possible to alert the SPOC to prospective applications, and to receive instructions on your State's process. Click on the following link to get the current SPOC list: http://www.whitehouse.gov/omb/grants/spoc.html.

IV.5. Funding Restrictions

Restrictions, which must be taken into account while writing your budget, are as follows:

• Funds may be expended for reasonable program purposes, such as personnel, travel, supplies, and services, including contractual.

• ATSDR funding is generally not to be used for the purchase of furniture or equipment.

• Funds may not be used for clinical services.

The direct and primary recipient in a cooperative agreement program must perform a substantial role in carrying out project objectives and not merely serve as a conduit for an award to another party or provider who is an ineligible party.

If you are requesting indirect costs in your budget, you must include a copy of your indirect cost rate agreement. If your indirect cost rate is a provisional rate, the agreement should be less than 12 months of age.

Awards will not allow reimbursement of pre-award costs.

Guidance for completing your budget can be found on the CDC Web site, at the following Internet address: http://www.cdc.gov/od/pgo/funding/budgetguide.htm.

IV.6. Other Submission Requirements

Application Submission Address: Submit the original and two hard copies of your application by mail or express delivery service to: Technical Information Management-PA# 04024, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Proposed Project—40 percent

a. Clearly stated understanding of environmental public health problem(s); and a clear understanding of the types of exposures and health issues to be addressed; and the health education and promotion, consultation, and referral services to be provided, including any special risks to children as a susceptible population.

b. Clear and reasonable public health goals and clearly stated project objectives that are realistic, measurable, and related to program requirements.

c. Identification of specific target audiences and their environmental health education and promotion needs.

d. Specificity and feasibility of the proposed timeline for implementing project activities.

e. Appropriateness and thoroughness of the proposed activities for the proposed target groups.

f. Plans for collaborative efforts.

g. Appropriate letters of support.

2. Capability—20 percent

a. Capability to develop and distribute nationally environmental public health education and promotion initiatives and the supporting resource materials.

b. Demonstrated ability to plan, conduct, and evaluate environmental health education and promotion activities, including professional training and community education.

c. Capability to document and prove a multi-disciplinary, patient-centered public health prevention and consultative services approach nationally through the National Network of PEHSU.

d. Demonstrated ability to collaborate effectively with a variety of public health partners.

3. Proposed Personnel—20 percent

a. The ability of the applicant to provide consulting clinical staff in departments of pediatrics and occupational/environmental medicine. Clinics participating in site work should have staffs that are: Either board certified or have nationally recognized expertise in environmental medicine or occupational medicine; either board certified toxicologist or have nationally recognized expertise in toxicology; and board certified pediatricians.

b. The proposed staff should have experience and expertise in developing, distributing, implementing, and evaluating medical consultation, and health education and promotion initiatives along with supportive intervention materials.

4. Evaluation Plan—20 percent

a. Strategies and methods to measure impacts and outcomes of project interventions, such as changes in target population/audience knowledge, attitudes, and behaviors, or practices and community or organizational-wide environmental changes.

b. Specific evaluation plan to measure overall project impact and outcome, such as achievement of stated public health objectives and effect of the project on the stated population.

5. Proposed Budget—(not scored)

Is the budget reasonable, clearly justified with a budget narrative, and consistent with the intended use of cooperative agreement funds?

V.2. Review and Selection Process

Applications will be reviewed for completeness by the Procurement and Grants Office (PGO) staff and for responsiveness by ATSDR. Incomplete applications and applications that are non-responsive to the eligibility criteria will not advance through the review process. Applicants will be notified that their application did not meet submission requirements.

An objective review panel will evaluate your application according to the criteria listed section “V.1. Criteria” section above.

In addition, the following factor may affect the funding decision: Ability to provide site-specific educational consultation on environmental medicine and pediatric health concerns in locations such as superfund sites where ATSDR or the EPA is assisting communities to cope with hazardous contamination.

V.3. Anticipated Announcement Award Date

August 1, 2004

VI. Award Administration Information

VI.1. Award Notices

Successful applicants will receive a Notice of Grant Award (NGA) from the CDC PGO. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Parts 74 and Part 92.

For more information on the Code of Federal Regulations, see the National Archives and Records Administration at the following Internet address: http://www.access.gpo.gov/nara/cfr/cfr-table-search.html.

The following additional requirements apply to this project:

• AR-1 Human Subjects Requirements

• AR-2 Requirements for Inclusion of Women and Racial and Ethnic Minorities in Research

• AR-8 Public Health System Reporting Requirements

• AR-9 Paperwork Reduction Act Requirements

• AR-10 Smoke-Free Workplace Requirements

• AR-11 Healthy People 2010

• AR-12 Lobbying Restrictions

• AR-14 Accounting System Requirements

• AR-18 Cost Recovery-ATSDR

• AR-19 Third Party Agreements-ATSDR

Additional information on these requirements can be found on the CDC Web site at the following Internet address: http://www.cdc.gov/od/pgo/funding/ARs.htm.

VI.3. Reporting Requirements

You must provide CDC with an original, plus two copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

f. Measures of Effectiveness.

2. Financial status report and annual progress report, no more than 90 days after the end of the budget period.

3. Final financial and performance reports, no more than 90 days after the end of the project period.

These reports must be sent to the Grants Management Specialist listed in the “Agency Contacts” section of this announcement.

VII. Agency Contacts

For general questions about this announcement, contact: Technical Information Management Section, CDC Procurement and Grants Office, 2920 Brandywine Road, Atlanta, GA 30341, Telephone: 770-488-2700.

For program technical assistance, contact:

Robert H. Johnson, MD, Medical Officer, Division of Health Education and Promotion, 1600 Clifton Road, N.E., Mailstop E-33, Atlanta, GA 30333, Telephone: (404) 498-0498, e-mail: rdj2@cdc.gov.

For budget assistance, contact: Edna Green, Grants Management Specialist, CDC Procurement and Grants Office, 2920 Brandywine Road, Atlanta, GA 30341, Telephone: (770) 488-2743, e-mail: ecg4@cdc.gov.

Dated: June 4, 2004.
William P. Nichols,
Acting Director, Procurement and Grants Office, Centers for Disease Control and Prevention.

[FR Doc. 04-13140 Filed 6-9-04; 8:45 am]

BILLING CODE 4163-70-P